DEPARTMENT OF COMMERCE

National Oceanic and Atmospheric Administration

RIN 0648-XF161

Mid-Atlantic Fishery Management Council (MAFMC); Public Meeting

AGENCY: National Marine Fisheries Service (NMFS), National Oceanic and Atmospheric Administration (NOAA), Commerce.

ACTION: Notice; public meeting.

SUMMARY: The Tilefish Advisory Panel of the Mid-Atlantic Fishery Management Council (Council) will hold a meeting.

DATES: The meeting will be held on Thursday, February 9, 2017, beginning at 9 a.m. and conclude by 12 noon. For agenda details, see SUPPLEMENTARY INFORMATION.

ADDRESSES: The meeting will be held via webinar with a telephone-only connection option: http://mafmc.adobeconnect.com/tile-ap-2017/.

Council address: Mid-Atlantic Fishery Management Council, 800 N. State Street, Suite 201, Dover, DE 19901; telephone: (302) 674-2331 or on their Web site at www.mafmc.org.

FOR FURTHER INFORMATION CONTACT: Christopher M. Moore, Ph.D., Executive Director, Mid-Atlantic Fishery Management Council, telephone: (302) 526-5255.

SUPPLEMENTARY INFORMATION: The purpose of the meeting is to create a fishery performance report by the Council's Tilefish Advisory Panel. The intent of this report is to facilitate a venue for structured input from the Advisory Panel members for the Golden and Blueline Tilefish specifications process, including recommendations by the Council and its Scientific and Statistical Committee (SSC).

Special Accommodations

This meeting is physically accessible to people with disabilities. Requests for sign language interpretation or other auxiliary aids should be directed to M. Jan Saunders, (302) 526-5251, at least 5 days prior to the meeting date.

Dated: January 11, 2017.
Jeffrey N. Lonergan,
Acting Deputy Director, Office of Sustainable Fisheries, National Marine Fisheries Service.

[FR Doc. 2017-00818 Filed 1-13-17; 8:45 am]

BILLING CODE 3510-22-P